DEPARTMENT OF COMMERCE

National Oceanic and Atmospheric Administration

Agency Information Collection Activities; Submission to the Office of Management and Budget (OMB) for Review and Approval; Comment Request; Generic Clearance for Economic Surveys of the Commercial and Charter Harvesting Sectors of Federally Managed Fisheries: Hawaii and American Samoa Pelagic Longline Fishery Trip Cost Data Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 6, 2021 (86 FR 213) during a 60-day comment period. This notice allows for an additional 30 days for public comments on this specific information collection.

Agency: National Oceanic and Atmospheric Administration (NOAA), Commerce.

Title: Generic Clearance for Economic Surveys of the Commercial and Charter Harvesting Sectors of Federally Managed Fisheries: Hawaii and American Samoa Pelagic Longline Fishery Trip Cost Data Collection.

OMB Control Number: 0648-0823.

Form Number(s): None.

Type of Request: Regular submission (revision to add a new generic information collection under an approved generic information collection).

Total Anticipated Respondents: 95.

Average Minutes per Response: 10.

Estimated Total Burden Hours: 32.5.

Needs and Uses: This is a revision request to add surveys for the Hawaii and American Samoa Pelagic Longline Fishery Trip Cost Data Collection to the Generic Clearance for Economic Surveys of the Commercial and Charter Harvesting Sectors of Federally Managed Fisheries.

The National Oceanic & Atmospheric Administration's National Marine Fisheries Service (NMFS or NOAA Fisheries) has conservation and management responsibilities for many living marine resources and their habitat. NMFS collects and uses economic data to make more than a cursory determination of whether a variety of provisions in the applicable laws, Executive Orders (EOs), and NOAA or NMFS strategies and policies have been met by past fishery conservation and management actions or will be met by proposed actions. The relevant measures of economic performance include costs, earnings, and profitability (net revenue); productivity and economic efficiency; capacity; economic stability; the level and distribution of net economic benefits to society; and market power. The economic impacts include sector, community, or region-specific and national employment, sales, value-added, and income impacts. The efforts to monitor, explain and predict changes in economic performance and impacts are ongoing and contribute to the value of the information contained in regulatory analyses of current and proposed fishery conservation and management measures, stock assessment and fishery evaluation (SAFE) reports, as well as other technical and scientific reports that address changes in economic performance and impacts.

Affected Public: Individuals or households and Business or other for-profit organizations.

Frequency: Twice a year for three years.

Respondent's Obligation: Voluntary.

Legal Authority: Magnuson-Stevens Fishery Conservation and Management Act (MSA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0823.

Sheleen Dumas,
Departmental PRA Compliance Officer, Office of the Under Secretary for Economic Affairs, Commerce Department.

[FR Doc. 2025-10296 Filed 6-5-25; 8:45 am]

BILLING CODE 3510-22-P